DEPARTMENT OF HOMELAND SECURITY

Coast Guard

[Docket Number USCG-2021-0191]

Waterways Commerce Cutter Acquisition Program; Preparation of a Programmatic Environmental Impact Statement

AGENCY: Coast Guard, DHS.

ACTION: Update to notice of intent to prepare a Programmatic Environmental Impact Statement (PEIS); virtual public meeting details.

SUMMARY: The United States Coast Guard (Coast Guard), as the lead agency, announced its intent to prepare a Programmatic Environmental Impact Statement (PEIS) for the Waterways Commerce Cutter (WCC) Program's acquisition and operation of up to 30 WCCs on April 19, 2021. This is an update to that notice to publish public meeting information.

DATES: The Coast Guard will host virtual public meetings at 8 p.m. Eastern Standard Time on May 11, 2021 and 6 p.m. Eastern Standard Time on May 12, 2021. Comments and material related to the WCC PEIS public scoping must be received by the Coast Guard on or before June 11, 2021.

FOR FURTHER INFORMATION CONTACT: For information about this document or the public meetings, please call or email Lieutenant Commander Sarah Krolman at 202-475-3104 or HQS-SMB-CG-WaterwaysCommerceCutter@uscg.mil.

SUPPLEMENTARY INFORMATION: The Coast Guard will host virtual public meetings at 8 p.m. Eastern Standard Time on May 11, 2021 and 6 p.m. Eastern Standard Time on May 12, 2021. The meetings will be hosted through Microsoft Teams. For those unable to attend through Microsoft Teams, call in information is provided and the presentation materials will be posted at https://www.dcms.uscg.mil/Our-Organization/Assistant-Commandant-for-Engineering-Logistics-CG-4-/Program-Offices/Environmental-Management/Environmental-Planning-and-Historic-Preservation/ no later than May 10, 2021.

The May 11, 2021 meeting will commence at 8 p.m. Eastern Standard Time and last one hour. This meeting can be accessed online at https://urldefense.proofpoint.com/v2/url?u=https-3A__teams.microsoft.com_l_meetup-2Djoin_19-253ameeting-5FZTAwODU5NzctZTBkZi00YzY5LTk4MWQtMjhmNTViMzk5MDU0-2540thread.v2_0-3Fcontext-3D-257b-2522Tid-2522-253a-252221acfbb3-2D32be-2D4715-2D9025-2D1e2f015cbbe9-2522-252c-2522Oid-2522-253a-25220783a6ca-2Da71a-2D40c0-2Dbcef-2Db47524899fbd-2522-257d&d=DwMFAw&c=tnPw9yRHa20_HV5YVoVFtg&r=TiMHIYA7kGdbYl_BHdlY9LZkDudomYyIyfY2IiUzQWA&m=rGSx0iu9LBCXJbpfDCCkbJ4SB8GMY1P-Jp-x2982GEw&s=gjgvYBaTqS6CMkdcOSpcCxhXuqQ0HmgUGdI9umItTSc&e=. For those unable to attend the meeting online, please call (571) 388-3904 and use pass code 578 512 053# to access the meeting via telephone.

The May 12, 2021 meeting will commence at 6 p.m. Eastern Standard Time and last one hour. This meeting can be accessed online at https://urldefense.proofpoint.com/v2/url?u=https-3A__teams.microsoft.com_l_meetup-2Djoin_19-253ameeting-5FNDJkM2E2MzEtNjQ0Ny00NmI3LWEyZWUtNTU3NGJjZjRhZjhl-2540thread.v2_0-3Fcontext-3D-257b-2522Tid-2522-253a-252221acfbb3-2D32be-2D4715-2D9025-2D1e2f015cbbe9-2522-252c-2522Oid-2522-253a-25220783a6ca-2Da71a-2D40c0-2Dbcef-2Db47524899fbd-2522-257d&d=DwMFAw&c=tnPw9yRHa20_HV5YVoVFtg&r=TiMHIYA7kGdbYl_BHdlY9LZkDudomYyIyfY2IiUzQWA&m=xmO9N8wPHlKSz-37_zLZM-7QZnuDD3xVptd-OPgLgVM&s=rxF2HNavOIs_4RkSdTPQDx1d73xcfd4xBMFpTTYS5qs&e=. For those unable to attend the meeting online, please call (571) 388-3904 and use pass code 736 697 546# to access the meeting via telephone.

Dated: April 22, 2021.
Aileen Sedmak,
Waterways Commerce Cutter Program Manager.

[FR Doc. 2021-08805 Filed 4-27-21; 8:45 am]

BILLING CODE 9110-04-P